DEPARTMENT OF DEFENSE

Office of the Secretary of Defense

Renewal of Department of Defense Federal Advisory Committees

AGENCY: Department of Defense.

ACTION: Renewal of Federal Advisory Committee.

SUMMARY: Under the provisions of the Federal Advisory Committee Act of 1972, (5 U.S.C. Appendix, as amended), the Government in the Sunshine Act of 1976 (5 U.S.C. 552b, as amended), and 41 CFR 102-3.65, the Department of Defense gives notice that it is renewing the charter for the Strategic Environmental Research and Development Program Scientific Advisory board (hereafter referred to as the Advisory Board).

The Board is a non-discretionary federal advisory committee established under the provisions of 10 U.S.C. 2904. Pursuant to 10 U.S.C. 2902 and 10 U.S.C. 2904(e), the Strategic Environmental Research and Development Program Council (hereafter referred to as the Council) shall refer to the Advisory Board and the Advisory Board shall review each proposed research project including its estimated cost, for research in and development of technologies related to environmental activities in excess of $1,000,000. Notwithstanding, the Council, in an effort to enhance the Advisory Board's review process, subsequently lowered the Advisory Board's dollar threshold to any proposed research projects in excess of $900,000. The Advisory Board shall make any recommendations to the Council that the Advisory Board considers appropriate regarding such project or proposal. The Advisory Board may make recommendations to the Council regarding technologies, research, projects, programs, activities, and if appropriate, funding within the scope of the Strategic Environmental Research and Development Program. In addition, the Advisory Board shall assist and advise the Council in identifying the environmental data and analytical assistance activities that should be covered by the policies and procedures prescribed pursuant to 10 U.S.C 2902(d)(1).

The Advisory Board shall be comprised of not less than six and not more than 14 members. Pursuant to 10 U.S.C. 2904(b) the Advisory Board membership shall be comprised of the following: (a) Permanent members of the Advisory Board—the Science Advisor to the President, the Administrator of the National Oceanic and Atmospheric Administration or their designees; (b) One member of the Advisory Board shall be a representative of environmental public interest groups; and (c) One member shall be a representative of the interests of State governments.

Pursuant to 10 U.S.C 2904(b)(3), the Secretary of Defense and the Secretary of Energy, in conjunction with the Administrator of the Environmental Protection Agency, shall request that the: (a) Head of the National Academy of Science, in consultation with the head of the National Academy of Engineering and the head of the Institutes of Medicine of the National Academy of Sciences, nominate persons for appointment to the Advisory Board; (b) Council of Environmental quality nominate for appointment to the Advisory board at least one person who is a representative of environmental public interest groups; and (c) National Association of Governors nominate for appointment to the Advisory Board at least one person who is a representative of the interests of State governments.

With the exception of the permanent Advisory Board members, Advisory Board members, pursuant to 10 U.S.C. 2904(b)(2), shall be appointed from among persons eminent in the fields of basic sciences, engineering, ocean and environmental sciences, education, research management, international and security affairs, health physics, health sciences, or social sciences, with due regard given to the equitable representation of scientists and engineers who are women or represent minority groups.

The Advisory Board, pursuant to 10 U.S.C. 2904(d), shall develop procedures for the annual election of the Advisory Board's chairperson.

Advisory Board members appointed by the Secretary of Defense, who are not full-time or permanent part-time federal officers or employees, shall be appointed as experts and consultants under the authority of 5 U.S.C 3109, and serve as Special Government Employees. The terms of their appointment shall not be less than two but not more than four years and their appointments shall be reviewed by the Secretary of Defense on an annual basis.

Advisory Board members who are Federal officers or employees shall serve without compensation (other than compensation to which they are entitled to as a Federal officer or employee). All Advisory Board members shall receive compensation for travel and per diem for official Advisory Board travel.

With DoD approval, the Advisory Board is authorized to establish Subcommittees or Working Groups, as necessary and consistent with its mission, and these Subcommittees or Working Groups shall operate under the provisions of the Federal Advisory Committee Act of 1972, the Government in the Sunshine Act of 1976 (5 U.S.C. 552b, as amended), and other appropriate federal regulations.

Such Subcommittees or Working Groups shall not work independently of the chartered Advisory Board, and shall report their recommendations and advice to the Advisory Board for full deliberation and discussion. Subcommittees or Working Groups have no authority to make decisions on behalf of the chartered Advisory Board nor can they report directly to DoD or any Federal officers or employees who are not Advisory Board members.

FOR FURTHER INFORMATION: Contact Jim Freeman, Deputy Committee Management Officer for the Department of Defense, 703-601-6128.

SUPPLEMENTARY INFORMATION: The Advisory Board shall meet at the call of the Board's Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Strategic Environmental Research and Development Program Scientific Advisory Board membership about the Advisory Board's mission and functions. Written statements may be submitted at any time or in response to the stated agenda of planned meeting of the Strategic Environmental Research and Development Program Scientific Advisory Board.

All written statements shall be submitted to the Designated Federal Officer for the Strategic Environmental Research and Development Program Scientific Advisory Board, and this individual will ensure that the written statements are provided to the membership for their consideration. Contact information for the Strategic Environmental Research and Development Program Scientific Advisory Board's Designated Federal Officer can be obtained from the GSA's FACA Database— https://www.fido.gov/facadatabase/public.asp.

The Designated Federal Officer, pursuant to 41 CFR 102-3.150, will announce planned meetings of the Strategic Environmental Research and Development Program Scientific Advisory Board. The Designated Federal Officer, at that time, may provide additional guidance on the submission of written statements that are in response to the stated agenda for the planned meeting in question.

Morgan E. Frazier,
Alternate OSD Federal Register Liaison Officer, Department of Defense.

[FR Doc. E9-16325 Filed 7-9-09; 8:45 am]

BILLING CODE 5001-06-P